NATIONAL CREDIT UNION ADMINISTRATION

Sunshine Act; Notice of Agency Meeting

TIME AND DATE: 9 a.m., Friday, December 17, 2010.

Place: Board Room, 7th Floor, Room 7047, 1775 Duke Street, Alexandria, VA 22314-3428.

Status: Closed.

Matters To Be Considered

1. Consideration of Supervisory Activities (3). Closed pursuant to some or all of the following: Exemptions (8), (9)(A)(ii) and 9(B).

2. Personnel. Closed pursuant to exemption (2).

FOR FURTHER INFORMATION CONTACT: Mary Rupp, Secretary of the Board, Telephone: 703-518-6304.

Mary Rupp,
Board Secretary.

[FR Doc. 2010-31495 Filed 12-10-10; 4:15 pm]

BILLING CODE P